FEDERAL MARITIME COMMISSION

Sunshine Act Meeting

Time and Date: September 15, 2009—10 a.m.

Place: 800 North Capitol Street, NW., First Floor Hearing Room, Washington, DC.

Status: A portion of the meeting will be in open session and the remainder of the meeting will be in closed session

Matters To Be Considered

Open Session

1. Docket No. 06-01: Worldwide Relocations, Inc.; et al.—Possible Violations of Sections 8, 10, and 19 of the Shipping Act of 1984 and the Commission's Regulations at 46 CFR 515.3, 515.21, and 520.3—Request for Extension of Time.

2. Docket No. 02-15: Passenger Vessel Financial Responsibility.

3. Statutory Re-codification of 46 CFR.

4. FY 2009 Budget Status Update.

Closed Session

1. Staff Briefing Regarding Global Economic Downturn and Potential Impact on Stakeholders.

2. Passenger Vessel Operator Regulatory Initiatives.

3. Internal Administrative Practices and Personnel Matters.

Contact Person for More Information: Karen V. Gregory, Secretary, (202) 523-5725.

Karen V. Gregory,
Secretary.

[FR Doc. E9-21948 Filed 9-8-09; 4:15 pm]

BILLING CODE 6730-01-P